DEPARTMENT OF AGRICULTURE

2014 Farm Bill Implementation Listening Session—Strategic Economic and Community Development

AGENCY: Rural Development, USDA.

ACTION: Notice of Public Listening Session.

SUMMARY: As part of our implementation of the Agricultural Act of 2014 (commonly referred to as the 2014 Farm Bill), Rural Development is hosting a listening session for public input about the Strategic Economic and Community Development priority funding to be made available for certain Rural Development programs. The 2014 Farm Bill contains a provision outlining the details of this priority funding in Section 6025.

The listening session will provide an opportunity for stakeholders to voice their comments, concerns, or requests regarding the implementation of this priority funding.

Instructions regarding registering for and attending the listening session are in the SUPPLEMENTARY INFORMATION section of this notice.

DATES: Listening session: The listening session will be on Thursday, June 5, 2014, and will begin at 1:00 p.m. and is scheduled to end by 4:00 p.m.

Registration: You must register by June 3, 2014, to attend in person and to provide oral comments during the listening session.

Comments: Public comments during the listening session on June 5, 2014 will be recorded. Written comments are due by June 12, 2014. Written comments must be submitted electronically via the Federal eRulmaking Portal: Regulations.gov (see below).

ADDRESSES: The listening session will be held in Room 108-A of the Whitten Building at 14th Street and Independence Ave. SW., Washington, DC 20250. We invite you to participate in the listening session. The listening session is open to the members of the public who register (see below).

For participants who cannot make it to the listening session in person, remote participation will be available:

• Dial 1-800-981-3173 and enter Conference ID: 5173.

We invite all participants to submit comments by any of the following methods:

• Federal eRulemaking Portal: Go to http://www.regulations.gov. Follow the online instructions for submitting comments; or

• Orally at the listening session; please also provide a written copy of your comments online as specified.

FOR FURTHER INFORMATION CONTACT: Primary program point of contact is Chad Maisel, Phone: 202-720-4581, Email: chad.maisel@osec.usda.gov. Persons with disabilities who require alternative means for communication (Braille, large print, audio tape, etc.) should contact the USDA Target Center at (202) 720-2600 (voice and TDD).

SUPPLEMENTARY INFORMATION: On February 7, 2014, the 2014 Farm Bill (Pub. L. 113-79) was signed into law. The Secretary of Agriculture and the respective USDA agencies, including Rural Development, are working to implement the provisions of the 2014 Farm Bill as expeditiously as possible to meet the needs of stakeholders. To plan and implement the newly authorized Strategic Economic and Community Development priority funding, it is important to engage with our stakeholders to learn and understand their comments, concerns, or requests.

Rural Development will hold the Strategic Economic and Community Development priority funding listening session on Thursday, June 5, 2014, to receive oral comments from stakeholders and the public. Oral comments received from this listening session will be documented and/or recorded. All attendees of this listening session who submit oral comments are requested to submit a written copy to help Rural Development accurately capture public input. (See the ADDRESSES section above for information about submitting written comments.) In addition, stakeholders and the public who do not wish to attend or speak at the listening session are invited to submit written comments, which must be received by June 12, 2014, via regulations.gov, as described above.

At the listening session, the focus is for Rural Development to hear from the public; this is not a discussion with Rural Development officials or a question and answer session. As noted above, the purpose is to receive public input that Rural Development can consider in order to implement the Strategic Economic and Community Development provision of the 2014 Farm Bill. Rural Development is interested in receiving input on all aspects on the implementation of this provision, including, but not limited to, defining “multi-jurisdictional” and “strategic economic and community development plan” and application requirements for applicants seeking funding under this provision.

Date: Thursday, June 5, 2014.

Time: 1:00 p.m.—4:00 p.m.

Location information: USDA headquarters, in the Whitten Building, Room 108-A, 14th Street and Jefferson Ave. SW., Washington, DC 20250.

The listening session will begin with brief opening remarks from USDA leadership in Rural Development. Individual speakers providing oral comments are requested to be succinct (no more than 5 min) as we do not know at this time how many participants there will be. As noted above, we request that speakers providing oral comments also provide a written copy of their comments. (See the ADDRESSES section above for information about submitting written comments.) All stakeholders and interested members of the public are welcome to register to provide oral comments; however, if necessary due to time constraints, a limited number will be selected on a first come, first serve basis.

Instructions for Attending the Listening Session

Space for attendance at the listening session is limited. Due to USDA headquarters security and space requirements, all persons wishing to attend the listening session in person or via phone must send an email to chad.maisel@osec.usda.gov by June 3, 2014, to register. Registrations will be accepted until maximum capacity is reached. To register, provide the following information:

• First Name

• Last Name

• Organization

• Title

• Email

• Phone Number

• City

• State

Upon arrival at the USDA Whitten Building, registered persons must provide valid photo identification in order to enter the building; visitors need to enter the Whitten Building on the mall side. Please allow extra time to get through security. Additional information about the listening session, agenda, directions to get to the listening session, and how to provide comments is available at the USDA Farm Bill Web site http://www.usda.gov/wps/portal/usda/usdahome?navid=farmbill.

All written comments received will be publicly available on www.regulations.gov. If you require special accommodations, such as a sign language interpreter, use the contact information above. The listening session location is accessible to persons with disabilities.

Dated: May 22, 2014.
Doug O'Brien,
Acting Under Secretary, Rural Development.

[FR Doc. 2014-12332 Filed 5-23-14; 8:45 am]

BILLING CODE 3410-XY-P